DEPARTMENT OF TRANSPORTATION

Federal Motor Carrier Safety Administration

[Docket No. FMCSA-1998-4334; FMCSA-2000-7363; FMCSA-2000-7918; FMCSA-2000-8398; FMCSA-2002-12844; FMCSA-2002-13411; FMCSA-2004-19477; FMCSA-2006-25246; FMCSA-2006-26066]

Qualification of Drivers; Exemption Renewals; Vision

AGENCY: Federal Motor Carrier Safety Administration (FMCSA), DOT.

ACTION: Notice of final disposition.

SUMMARY: FMCSA previously announced its decision to renew the exemptions from the vision requirement in the Federal Motor Carrier Safety Regulations for 23 individuals. FMCSA has statutory authority to exempt individuals from the vision requirement if the exemptions granted will not compromise safety. The Agency has concluded that granting these exemptions will provide a level of safety that will be equivalent to, or greater than, the level of safety maintained without the exemptions for these commercial motor vehicle (CMV) drivers.

FOR FURTHER INFORMATION CONTACT: Dr. Mary D. Gunnels, Director, Medical Programs, (202) 366-4001, fmcsamedical@dot.gov, FMCSA, Department of Transportation, 1200 New Jersey Avenue, SE., Room W64-224, Washington, DC 20590-0001. Office hours are from 8:30 a.m. to 5 p.m. Monday through Friday, except Federal holidays.

SUPPLEMENTARY INFORMATION:

Electronic Access

You may see all the comments online through the Federal Document Management System (FDMS) at http://www.regulations.gov.

Background

Under 49 U.S.C. 31136(e) and 31315, FMCSA may grant an exemption for a 2-year period if it finds “such exemption would likely achieve a level of safety that is equivalent to, or greater than, the level that would be achieved absent such exemption.” The statute also allows the Agency to renew exemptions at the end of the 2-year period. The comment period ended on March 26, 2009.

Discussion of Comments

FMCSA received no comments in this proceeding.

Conclusion

The Agency has not received any adverse evidence on any of these drivers that indicates that safety is being compromised. Based upon its evaluation of the 23 renewal applications, FMCSA renews the Federal vision exemptions for David W. Ball, Mark L. Braun, Richard A. Brown, Jr., Willie Burnett, Jr., Donald K. Driscoll, Elias Gomez, Jr., Richard G. Gruber, Richard T. Hatchel, William G. Holland, Bruce G. Horner, Leon E. Jackson, Gerald D. Larson, Thomas F. Marczewski, Roy E. Mathews, James T. McGraw, Jr., Carl A. Michel, Sr., Robert A. Moss, Harry M. Oxendine, Bobby G. Pool, Sr., Herbert W. Smith, Ronald Watt, Harry C. Weber, Yu Weng.

In accordance with 49 U.S.C. 31136(e) and 31315, each renewal exemption will be valid for 2 years unless revoked earlier by FMCSA. The exemption will be revoked if: (1) The person fails to comply with the terms and conditions of the exemption; (2) the exemption has resulted in a lower level of safety than was maintained before it was granted; or (3) continuation of the exemption would not be consistent with the goals and objectives of 49 U.S.C. 31136 and 31315.

Issued on: April 15, 2009.
Larry W. Minor,
Associate Administrator for Policy and Program Development.

[FR Doc. E9-9283 Filed 4-21-09; 8:45 am]

BILLING CODE 4910-EX-P